DEPARTMENT OF HEALTH AND HUMAN SERVICES

Substance Abuse and Mental Health Services Administration

Notice of Meeting

Pursuant to Public Law 92-463, notice is hereby given of the meeting of the Substance Abuse and Mental Health Services Administration's (SAMHSA) National Advisory Council (NAC) on February 26, 2016.

The meeting will include a brief reflection on the February 25, 2016 Joint National Advisory Council meeting (JNAC) and presentations related to emerging issues and increasing engagement in quality care, followed by a Council discussion.

The meeting is open to the public and will be held at the Bethesda North Marriott and Conference Center, 5701 Marinelli Road, Rockville, MD 20852. Attendance by the public will be limited to space available. Interested persons may present data, information, or views, orally or in writing, on issues pending before the Council. Written submissions should be forwarded to the contact person on or before February 16, 2016. Oral presentations from the public will be scheduled at the conclusion of the meeting. Individuals interested in making oral presentations are encouraged to notify the contact on or before February 16, 2016. Five minutes will be allotted for each presentation.

The meeting may be accessed via telephone and web conferencing will be available. To attend on site; obtain the call-in number, access code, and/or web access link; submit written or brief oral comments; or request special accommodations for persons with disabilities, please register on-line at: http://nac.samhsa.gov/Registration/meetingsRegistration.aspx, or communicate with SAMHSA's Committee Management Officer, CDR Carlos Castillo (see contact information below).

Substantive meeting information and a roster of Council members may be obtained either by accessing the SAMHSA Council's Web site at http://www.samhsa.gov/about-us/advisory-councils/ or by contacting CDR Castillo. Substantive program information may be obtained after the meeting by accessing the SAMHSA Council's Web site, http://nac.samhsa.gov/, or by contacting CDR Castillo.

Council Name: Substance Abuse and Mental Health Services, Administration National Advisory Council.

Date/Time/Type: February 26, 2016, 8:30 a.m. to 1:00 p.m. (EDT), Open.

Place: Bethesda North Marriott and Conference Center, 5701 Marinelli Road, Rockville, Maryland 20852.

Contact: CDR Carlos Castillo, Committee Management Officer and Designated Federal Official, SAMHSA National Advisory Council, 5600 Fishers Lane, Room 18E77A, Rockville, Maryland 20857 (mail), Telephone: (240) 276-2787, Email: carlos.castillo@samhsa.hhs.gov.

Summer King,
Statistician, SAMHSA.

[FR Doc. 2016-02775 Filed 2-10-16; 8:45 am]

BILLING CODE 4162-20-P